DEPARTMENT OF HOMELAND SECURITY

Coast Guard

33 CFR Part 117

[CGD08-04-008]

Drawbridge Operation Regulations; Gulf Intracoastal Waterway—Black Bayou, LA

AGENCY: Coast Guard, DHS.

ACTION: Notice of temporary deviation from regulations.

SUMMARY: The Commander, Eighth Coast Guard District, has issued a temporary deviation from the regulation governing the operation of the Black Bayou Pontoon Bridge across the Gulf Intracoastal Waterway, mile 237.5 west of Harvey Lock, in Calcasieu Parish, LA. This deviation allows the bridge to remain closed to navigation during daylight hours during weekdays only for four weeks. The deviation is necessary to repair and replace damaged portions of the fender system.

DATES: This deviation is effective from 7 a.m. on Wednesday, March 17, 2004 through 5 p.m. on Wednesday, April 14, 2004.

ADDRESSES: Materials referred to in this document are available for inspection or copying at the office of the Eighth Coast Guard District, Bridge Administration Branch, Hale Boggs Federal Building, room 1313, 500 Poydras Street, New Orleans, Louisiana 70130-3310 between 7 a.m. and 3 p.m., Monday through Friday, except Federal holidays. The telephone number is (504) 589-2965. The Bridge Administration Branch of the Eighth Coast Guard District maintains the public docket for this temporary deviation.

FOR FURTHER INFORMATION CONTACT: David Frank, Bridge Administration Branch, telephone (504) 589-2965.

SUPPLEMENTARY INFORMATION: The Louisiana Department of Transportation and Development (LDOTD) has requested a temporary deviation in order to remove and replace damaged portions of the fender system of the Black Bayou Pontoon Bridge across the Gulf Intracoastal Waterway, mile 237.5 west of Harvey Lock, in Calcasieu Parish, LA. The repairs are necessary to ensure the safety of the bridge. This temporary deviation will allow the bridge to remain in the closed-to-navigation position from 7 a.m. until 11 a.m. and from 1 p.m. until 5 p.m. Monday through Friday from March 17, 2004 through April 14, 2004.

As the bridge has no vertical clearance in the closed-to-navigation position, vessels will not be able to transit through the bridge sight when the bridge is closed. Navigation at the site of the bridge consists mainly of tows with barges and some recreational pleasure craft. Due to prior experience, as well as coordination with waterway users, it has been determined that this closure will not have a significant effect on these vessels. The bridge normally opens to pass navigation an average of 878 times per month. The bridge opens on signal as required by 33 CFR 117.5. The bridge will be able to open for emergencies during the closure period with proper notice. Alternate routes are not available.

In accordance with 33 CFR 117.35(c), this work will be performed with all due speed in order to return the bridge to normal operation as soon as possible. This deviation from the operating regulations is authorized under 33 CFR 117.35.

Dated: February 18, 2004.
Marcus Redford,
Bridge Administrator.

[FR Doc. 04-4488 Filed 2-27-04; 8:45 am]

BILLING CODE 4910-15-P